OFFICE OF PERSONNEL MANAGEMENT

5 CFR Parts 919 and 970

RIN 3206-AK30

Governmentwide Debarment and Suspension (Nonprocurement)

AGENCY: Office of Personnel Management.

ACTION: Final rule.

SUMMARY: The Office of Personnel Management (OPM) is issuing a final rule to redesignate part 970 of title 5 of the Code of Federal Regulations as part 919. OPM intends to use part 970 in the near future as the location for new regulations issued jointly by the Department of Homeland Security and OPM, which will establish a new human resources management system within DHS.

EFFECTIVE DATE: December 23, 2003.

FOR FURTHER INFORMATION CONTACT: David Cope, Debarring Official, Office of Inspector General, Office of Personnel Management, by telephone at (202) 606-2851, by fax at (202) 606-2153, or by e-mail at debar@opm.gov.

SUPPLEMENTARY INFORMATION: In determining the organization of regulatory parts in title 5 of the Code of Federal Regulations, OPM generally assigns part numbers so that they link to corresponding statutory sections of title 5, United States Code. For example, the leave statutes in 5 U.S.C. chapter 63 are regulated in 5 CFR part 630. As part of the Homeland Security Act of 2002 (Pub. L. 107-296, November 25, 2002), Congress added a new chapter 97 to title 5, United States Code. Section 9701 of chapter 97 provides OPM and the Department of Homeland Security (DHS) with authority to jointly issue regulations establishing a new human resources management system for DHS employees. OPM has determined that, consistent with its general approach in assigning regulatory part numbers, part 970 should be reserved for the joint DHS/OPM regulations issued under 5 U.S.C. 9701. OPM expects those regulations to be issued early in 2004.

Currently, OPM has existing regulations in part 970 that relate to a Governmentwide system for debarment and suspension of certain persons with respect to participation in transactions under Federal nonprocurement programs. With the issuance of this final rule, these debarment and suspension regulations will be relocated to part 919.

Because the redesignation of part 970 does not involve rulemaking, the redesignation changes are final and become effective immediately.

List of Subjects in 5 CFR Part 919

Administrative practice and procedure, Grant programs, Loan programs.

Office of Personnel Management.
Kay Coles James,
Director.

Accordingly, for the reasons stated in the preamble, OPM amends 5 CFR chapter I as follows:

PART 970—[REDESIGNATED AS PART 919]

1. The authority citation for part 970 continues to read as follows:

Authority: Sec. 2455, Pub.L. 103-355, 108 Stat.3327; E.O. 12549, 3 CFR, 1986 Comp., p. 189; E.O. 12689, 3 CFR, 1989 Comp., p. 235.

2. Part 970 is redesignated as part 919.

[FR Doc. 03-31576 Filed 12-22-03; 8:45 am]

BILLING CODE 6325-39-P